SMALL BUSINESS ADMINISTRATION

[Declaration of Disaster #3451]

State of Mississippi

As a result of the President's major disaster declaration on October 1, 2002, I find that Amite, Hancock, Harrison, Jackson, Pearl River, Pike and Stone Counties in the State of Mississippi constitute a disaster area due to damages caused by Tropical Storm Isidore occurring on September 23, 2002, and continuing. Applications for loans for physical damage as a result of this disaster may be filed until the close of business on December 2, 2002 and for economic injury until the close of business on July 1, 2003 at the address listed below or other locally announced locations:

U.S. Small Business Administration, Disaster Area 2 Office, One Baltimore Place, Suite 300, Atlanta, GA 30308.

In addition, applications for economic injury loans from small businesses located in the following contiguous counties may be filed until the specified date at the above location: Forrest, Franklin, George, Lamar, Lincoln, Marion, Perry, Walthall and Wilkinson in the State of Mississippi; Mobile County in the State of Alabama; and East Feliciana, St. Helena, St. Tammany, Tangipahoa and Washington Parishes in the State of Louisiana.

The interest rates are:

| Percent
For Physical Damage:
Homeowners With Credit Available Elsewhere | 6.625
Homeowners Without Credit Available Elsewhere | 3.312
Businesses With Credit Available Elsewhere | 7.000
Businesses and Non-Profit Organizations Without Credit Available Elsewhere | 3.500
Others (Including Non-Profit Organizations) With Credit Available Elsewhere | 6.375
For Economic Injury: Businesses and Small Agricultural Cooperatives Without Credit Available Elsewhere | 3.500

The number assigned to this disaster for physical damage is 345111. For economic injury the number is 9R8800 for Mississippi; 9R8900 for Alabama; and 9R9000 for Louisiana.

(Catalog of Federal Domestic Assistance Program Nos. 59002 and 59008)
Dated: October 2, 2002.
Herbert L. Mitchell,
Associate Administrator for Disaster Assistance.

[FR Doc. 02-25689 Filed 10-8-02; 8:45 am]

BILLING CODE 8025-01-P